DEPARTMENT OF THE INTERIOR

National Park Service

[NPS-WASO-NAGPRA-NPS0039094; PPWOCRADN0-PCU00RP14.R50000]

Notice of Intended Repatriation: Sonoma State University, Rohnert Park, CA

AGENCY: National Park Service, Interior.

ACTION: Notice.

SUMMARY: In accordance with the Native American Graves Protection and Repatriation Act (NAGPRA), the Sonoma State University intends to repatriate certain cultural items that meet the definition of unassociated funerary objects and that have a cultural affiliation with the Indian Tribes or Native Hawaiian organizations in this notice.

DATES: Repatriation of the cultural items in this notice may occur on or after December 26, 2024.

ADDRESSES: Doshia Dodd, Sonoma State University, 1801 East Cotati Avenue, Rohnert Park, CA 94928, telephone (530) 514-8472, email Doshia.dodd@sonoma.edu.

SUPPLEMENTARY INFORMATION: This notice is published as part of the National Park Service's administrative responsibilities under NAGPRA. The determinations in this notice are the sole responsibility of the Sonoma State University, and additional information on the determinations in this notice, including the results of consultation, can be found in the summary or related records. The National Park Service is not responsible for the determinations in this notice.

Abstract of Information Available

A lot of 4,079 cultural items have been requested for repatriation that was taken from archaeological site CA-TEH-1529 in Tehama County, California. The lot of 4,079 unassociated funerary objects are soil samples; flaked stone tools and debitage; groundstone; unmodified faunal bone and shell; and modified faunal bone. Sonoma State University acquired the cultural items in 1995 from Far Western Anthropological Research Group archeological project for the PG&E and PGT Pipeline replacement project. The cultural items have remained in possession of Sonoma State since their curation, under the Accession Number 91-32.

A lot of 405 cultural items have been requested for repatriation that was taken from archaeological site CA-TEH-1350/h in Tehama County, California. The lot of 405 unassociated funerary objects are Debitage; Historic material; Unmodified faunal bone. Sonoma State University acquired the cultural items in 1996 from Far Western Anthropological Research Group archeological project for the PG&E and PGT Pipeline replacement project. The cultural items have remained in possession of Sonoma State since their curation, under the Accession Number 92-56.

A lot of 576 cultural items have been requested for repatriation that was taken from archaeological site CA-SHA-1966 in Shasta County, California. The lot of 576 unassociated funerary objects are Flaked stone tools and debitage; and Groundstone. Sonoma State University acquired the cultural items in 1996 from Far Western Anthropological Research Group archeological project for the PG&E and PGT Pipeline replacement project. The cultural items have remained in possession of Sonoma State since their curation, under the Accession Number 93-08.

A lot of 40 cultural items have been requested for repatriation that was taken from archaeological site CA-SHA-1520, CA-SHA-1521, CA-SHA-1522, CA-SHA-1528/h, and CA-SHA-1529/h in Shasta County, California. The lot of 40 unassociated funerary objects are Debitage; and Historic material. Sonoma State University acquired the cultural items in 1985 from Anthropological Studies Center Anthropological Research Group archeological project for PG&E Timber Harvest Sale. The cultural items have remained in possession of Sonoma State since their curation, under the Accession Number 85-01.

Based on records concerning the unassociated funerary objects and the institution in which they are housed, there is no evidence of the unassociated funerary objects being treated with hazardous substances.

Determinations

The Sonoma State University has determined that:

• The lot of 5,100 unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• There is a reasonable connection between the cultural items described in this notice and the Paskenta Band of Nomlaki Indians of California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after December 26, 2024. If competing requests for repatriation are received, the Sonoma State University must determine the most appropriate requestor prior to repatriation. Requests for joint repatriation of the cultural items are considered a single request and not competing requests. The Sonoma State University is responsible for sending a copy of this notice to the Indian Tribes and Native Hawaiian organizations identified in this notice and to any other consulting parties.

Authority: Native American Graves Protection and Repatriation Act, 25 U.S.C. 3004 and the implementing regulations, 43 CFR 10.9.

Dated: November 18, 2024.
Melanie O'Brien,
Manager, National NAGPRA Program.

[FR Doc. 2024-27496 Filed 11-22-24; 8:45 am]

BILLING CODE 4312-52-P